DEPARTMENT OF ENERGY

Federal Energy Regulatory Commission

Combined Notice of Filings #1

Take notice that the Commission received the following electric corporate filings:

Docket Numbers: EC16-173-000.

Applicants: The Dayton Power and Light Company, AES Ohio Generation, LLC.

Description: Application under FPA Section 203 of The Dayton Power and Light Company to transfer generation facilities and related assets to AES Ohio Generation, LLC.

Filed Date: 8/25/16.

Accession Number: 20160825-5201.

Comments Due: 5 p.m. ET 9/15/16.

Take notice that the Commission received the following exempt wholesale generator filings:

Docket Numbers: EG16-143-000.

Applicants: Grand View PV Solar Two, LLC.

Description: Grand View PV Solar Two LLC submits Notice of Self-Certification of Exempt Wholesale Generator Status.

Filed Date: 8/26/16.

Accession Number: 20160826-5212.

Comments Due: 5 p.m. ET 9/16/16.

Take notice that the Commission received the following electric rate filings:

Docket Numbers: ER16-2364-000.

Applicants: Algonquin SKIC 10 Solar, LLC.

Description: Report Filing: Supplement to Application for Order Accepting Initial Tariff to be effective N/A.

Filed Date: 8/24/16.

Accession Number: 20160824-5136.

Comments Due: 5 p.m. ET 9/14/16.

Docket Numbers: ER16-2491-000.

Applicants: Elwood Energy LLC.

Description: Compliance filing: Rate Schedule FERC No. 2 Compliance Filing to be effective 12/31/9998.

Filed Date: 8/25/16.

Accession Number: 20160825-5177.

Comments Due: 5 p.m. ET 9/15/16.

Docket Numbers: ER16-2492-000.

Applicants: Phoenix Energy New England, LLC.

Description: Baseline eTariff Filing: Phoenix Energy New England LLC MBR Application to be effective 9/26/2016.

Filed Date: 8/26/16.

Accession Number: 20160826-5179.

Comments Due: 5 p.m. ET 9/16/16.

Docket Numbers: ER16-2493-000.

Applicants: South Carolina Electric & Gas Company.

Description: Section 205(d) Rate Filing: SCPSA Interchange Agreement to be effective 8/26/2016.

Filed Date: 8/26/16.

Accession Number: 20160826-5181.

Comments Due: 5 p.m. ET 9/16/16.

Docket Numbers: ER16-2494-000.

Applicants: PJM Interconnection, L.L.C.

Description: Section 205(d) Rate Filing: Original Service Agreement No. 4515, Queue Position AB1-174 to be effective 7/27/2016.

Filed Date: 8/26/16.

Accession Number: 20160826-5193.

Comments Due: 5 p.m. ET 9/16/16.

Docket Numbers: ER16-2495-000.

Applicants: NextEra Blythe Solar Energy Center, LLC.

Description: Baseline eTariff Filing: NextEra Blythe Solar Energy Center, LLC Shared Facilities Agreement to be effective 8/26/2016.

Filed Date: 8/26/16.

Accession Number: 20160826-5219.

Comments Due: 5 p.m. ET 9/16/16.

Take notice that the Commission received the following electric securities filings:

Docket Numbers: ES16-42-000.

Applicants: Trans Bay Cable LLC.

Description: Informational Filing to July 12, 2016 Application for Authority to Issue Securities of Trans Bay Cable LLC.

Filed Date: 8/25/16.

Accession Number: 20160825-5200.

Comments Due: 5 p.m. ET 9/6/16.

Docket Numbers: ES16-54-000.

Applicants: Wolverine Power Supply Cooperative, Inc.

Description: Application of Wolverine Power Supply Cooperative, Inc. for Authorization of the Assumption of Liabilities and the Issuance of Securities under Section 204 of the Federal Power Act.

Filed Date: 8/26/16.

Accession Number: 20160826-5059.

Comments Due: 5 p.m. ET 9/16/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 26, 2016.
Kimberly D. Bose,
Secretary.

[FR Doc. 2016-21170 Filed 9-1-16; 8:45 am]

BILLING CODE 6717-01-P